Title 3—

The President

Presidential Determination No. 2008-8 of January 22, 2008

Determination on the Proposed Agreement for Cooperation Between the United States of America and the Republic of Turkey Concerning Peaceful Uses of Nuclear Energy

Memorandum for the Secretary of State [and] the Secretary of Energy

I have considered the proposed Agreement for Cooperation Between the United States of America and the Republic of Turkey Concerning Peaceful Uses of Nuclear Energy, signed at Ankara on July 26, 2000, along with the views, recommendations, and statements of interested agencies.

I approve the proposed Agreement and have determined the performance of the Agreement will promote, and will not constitute an unreasonable risk to, the common defense and security.

The Secretary of State is authorized to publish this determination in the Federal Register.

THE WHITE HOUSE,

Washington, January 22, 2008.

[FR Doc. 08-494

Filed 2-1-08; 8:58 am]

Billing code 4710-10-P